DEPARTMENT OF AGRICULTURE

Food and Nutrition Service

7 CFR Part 220

School Breakfast Program

CFR Correction

In Title 7 of the Code of Federal Regulations, Parts 210 to 299, revised as of January 1, 2014, on page 107, in § 220.8, in paragraph (e), the last sentence is corrected to read as follows:

§ 220.8 Meal requirements for breakfasts.

* * * * *

(e) * * * If only three food items are offered at breakfast, school food authorities or schools may not exercise the offer versus serve option.

* * * * *

[FR Doc. 2014-14610 Filed 6-19-14; 8:45 am]

BILLING CODE 1505-01-D